DEPARTMENT OF DEFENSE

Department of the Air Force

Notice of Intent To Prepare an Environmental Impact Statement for the 492nd Special Operations Wing Beddown at Davis-Monthan Air Force Base, Arizona

AGENCY: Department of the Air Force, lead Agency, Department of Defense.

ACTION: Notice of Intent.

SUMMARY: The Department of the Air Force (DAF) is issuing this Notice of Intent (NOI), in accordance with the National Environmental Policy Act (NEPA), to prepare an environmental impact statement (EIS) to evaluate the potential environmental impacts associated with transformation of the 492nd Special Operations Wing (492 SOW) into an Air Force Special Operations Command (AFSOC) Power Projection Wing (PPW) at Davis-Monthan Air Force Base (AFB), Arizona. This PPW would include the 492 SOW, the 6th and 319th Special Operations Squadrons, an MC-130J squadron, activation of an Intelligence Squadron (IS) under the Air Combat Command (ACC) 361st Intelligence, Surveillance, and Reconnaissance Group (361 ISRG), and Special Tactics and Special Operations Theater Air Operations Squadrons. The beddown of the 492 SOW is planned as a replacement mission for the A-10 aircraft at Davis-Monthan as they retire. There will likely be a short-term temporary overlap of the 492 SOW mission with the A-10s until their retirement is complete.

DATES: A public scoping period will take place starting from the date of this NOI publication in the Federal Register and will last for 30 days. Comments will be accepted at any time during the environmental impact analysis process; however, to ensure the DAF has sufficient time to consider public scoping comments during preparation of the Draft EIS, please submit comments within the 30-day scoping period.

The DAF invites the public, stakeholders, and other interested parties to attend the public scoping meeting. The in-person scoping meeting will be held on May 30 at the Tucson Convention Center, 260 S. Church Ave., Tucson, Arizona 85701. The in-person scoping meeting will take place from 5:30 p.m. to 7:30 p.m. local time. A virtual scoping meeting is scheduled for June 4 at 5:30 p.m. local time. Information on how to attend the virtual scoping meeting is available on the project website (www.492sow-beddown-eis.com). The scoping meetings will provide an opportunity for attendees to learn more about the Proposed Action and Alternative and provide an early and open process to assist the DAF in determining the scope of issues for analysis in the EIS, including identifying significant environmental issues and eliminating from further study non-significant issues. Project team members will be available to answer questions and there will also be an opportunity to provide written comments. Scoping meeting notification and scoping materials will be provided in English and Spanish.

The Notice of Availability (NOA) of the Draft EIS is anticipated in the late Fall of 2024 and the NOA for the Final EIS is anticipated in the Summer of 2025. A decision could be made no earlier than 30 days after the Final EIS.

ADDRESSES: The project website (www.492sow-beddown-eis.com) provides information related to the EIS, such as environmental documents, schedule, and project details, as well as a comment form. Comments may be submitted via the website comment form, emailed to afcec.czn.nepacenter@us.af.mil, or mailed to 492 SOW Beddown EIS, 13397 Lakefront Drive; Suite 100 Earth City, MO 63045. Members of the public who want to receive future mailings informing them of the availability of the Draft EIS and Final EIS are encouraged to submit a comment that includes their name and email or postal mailing address. For other inquiries, please contact Mr. Nick Post, NEPA Project Manager at afcec.czn.nepacenter@us.af.mil or 1-210-925-3516.

SUPPLEMENTARY INFORMATION: The purpose for the DAF's Proposed Action is to create co-located AFSOC and ACC units that have the resources required to optimize the DAF special operations and special warfare forces to support the National Defense Strategy (NDS) while maximizing AFSOC's capabilities as a power projection wing that provides United States Special Operations Command and combatant commands specialized airpower against the entire range of threats to the United States and our allies/partners. The need for the proposed action stems from 2023 AFSOC strategic guidance, which aligns with the 2022 NDS. The strategic guidance emphasizes that the AFSOC mission is to enable the joint force by delivering AFSOC mission capabilities across the spectrum of competition and conflict. A new IS, as a geographically separated unit under ACC's 361 ISRG, is needed to continue to provide ACC direct support to the AFSOC mission. As AFSOC aircraft relocate to Davis-Monthan AFB, Arizona, the ACC cryptologic operators, analysts, and mission support personnel that currently support those aircraft and missions would need to remain co-located. The unique capabilities of the ACC IS would be critical to the success of the 492 SOW mission. This action is needed because the global security environment has fundamentally changed. In response to the changing nature of threats to the United States, AFSOC needs to accelerate transformation to properly prepare, prevent, and prevail against any adversary in today's complex and uncertain operational environment.

The DAF has identified a Proposed Action Alternative and the No Action Alternative to be carried forward for analysis in the EIS. Under the Proposed Action, the DAF would transform the 492 SOW into an AFSOC's PPW at Davis-Monthan AFB, Arizona. This PPW would include the 492 SOW, the 6th and 319th Special Operations Squadrons, an MC-130J squadron, activation of an IS as a geographically separated unit under the ACC 361 ISRG, and Special Tactics and Special Operations Theater Air Operations Squadrons. The Proposed Action would include the construction, renovation and demolition of facilities at Davis-Monthan AFB, as necessary to support the 492 SOW beddown. AFSOC aircrews would use airspace over areas in Southern Arizona and Southern New Mexico including special use airspace. No new special use airspace would be created and there would be no modifications to existing special use airspace as part of the Proposed Action Alternative.

Under the No Action Alternative, the 492 SOW beddown would not occur at Davis-Monthan AFB and there would be no new AFSOC mission personnel or ACC IS personnel at Davis Monthan AFB.

Potential impacts may include impacts to land use, airspace management, safety, noise, hazardous materials and waste, physical resources (including soil and water resources), air quality, transportation, socioeconomics, and environmental justice as well as potential impacts to cultural and biological resources due to ground disturbing activities.

Potential permits that could be required include, but are not limited to, Section 404 of the Clean Water Act, Clean Air Act, General Construction, and a National Pollutant Discharge Elimination System permit.

Scoping and Agency Coordination: Consultation will include, but not necessarily be limited to, consultation under Section 7 of the Endangered Species Act and consultation under Section 106 of the National Historic Preservation Act, to include consultation with federally recognized Native American Tribes. The DAF will determine the scope of the analysis by soliciting comments from interested local, state, and federally elected officials and agencies, federally recognized Native American tribes, as well as interested members of the public. Comments are requested on identification of potential alternatives, information, and analyses relevant to the Proposed Action.

Tommy W. Lee,
Acting Air Force Federal Register Liaison Officer.

[FR Doc. 2024-10141 Filed 5-8-24; 8:45 am]

BILLING CODE 3911-44-P